PEACE CORPS

Volunteer Language Testing Scores System

AGENCY: Peace Corps.

ACTION: Notice to add a new system of records.

SUMMARY: As required under the Privacy Act of 1974, (5 U.S.C. 552a), as amended, the Peace Corps is giving notice of a new system of records, Volunteer Language Testing Scores System.

DATES: This action will be effective without further notice on October 5, 2007 unless comments are received by September 20, 2007 that would result in a contrary determination.

ADDRESSES: You may submit comments by e-mail to sglasow@peacecorps.gov. Include Privacy Act System of Records in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress.

System Name:

PC-32, Volunteer Language Testing Scores System.

System Location:

Overseas Training Division, Training and Staff Development Unit, Peace Corps, 1111 20th St., NW., Washington, DC 20526.

Categories of Individuals Covered by the System:

Any Peace Corps Trainee or currently serving Volunteer.

Categories of Records in the System:

Name, Volunteer Identification Number, gender, Social Security Number, country of service, region of service, date of birth, project type, project name or assigned sector, language background, notes, test date, language code, tester code, length of preservice training, Educational Testing Services/Teaching of Foreign Language rating, certificate of language proficiency, and reason not tested, if applicable.

Authority for Maintenance of the System:

The Peace Corps Act, 22 U.S.C. 2501 et seq.

Purpose:

To record Educational Testing Services/Teaching of Foreign Language rating of Peace Corps Volunteers.

Routine uses of Records Maintained in the System:

General routine uses A-L apply to this system.

Records May Also Be Disclosed To:

Peace Corps Volunteer host country officials for review of their qualifications for a program.

Policies and Practices for Storing, Retrieving, Accessing, Retaining, and Disposing of Records in the System:

Storage:

In a computerized database.

Retrievability:

By name, region, gender, assigned sector, or date tested.

Safeguards:

Computer records are maintained in a secure, password-protected computer system.

Retention and disposal:

Records in the computerized database are kept for seven years after swear in and five years after close of service.

System Manager:

Chief, Overseas Training, Center for Field Assistance and Applied Research (CEN), 1111 20th St., NW., Washington, DC 20526.

Procedures for Notification, Access, and Contesting:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR Part 308.

Record Source Categories:

Record subject and official records of Educational Testing Services/Teaching of Foreign Language rating.

Exemptions Claimed for the System:

None.

Dated: August 15, 2007.
Wilbert Bryant,
Associate Director for Management.

[FR Doc. E7-16366 Filed 8-20-07; 8:45 am]

BILLING CODE 6051-01-P